NUCLEAR REGULATORY COMMISSION

[Docket No. 50-400]

Carolina Power & Light Company; Notice of Partial Withdrawal of Application for Amendment to Facility Operating License

The U.S. Nuclear Regulatory Commission (the Commission) has granted the request of Carolina Power & Light Company, et al. (the licensee) to withdraw a portion of its August 28, 2002, application for proposed amendment to Facility Operating License No. NPF-63 for the Shearon Harris Nuclear Power Plant, Unit 1, located in Wake and Chatham Counties, North Carolina.

The withdrawn portion of the proposed amendment would have revised Technical Specification 6.9.1.6.2 by including Topical Report EMF-2310(P)(A), “SRP [Standard Review Plan] Chapter 15 Non-LOCA [loss-of-coolant accident] Methodology for Pressurized-Water Reactors,” as a reference methodology used to determine core operating limits at Shearon Harris Nuclear Power Plant, Unit 1.

The other portion of the amendment application, which requested approval of topical report EMF-2328(P)(A), “PWR [pressurized-water reactor] Small-Break LOCA Evaluation Model, S-RELAP5-Based,” as a reference in the TS, was approved and issued as Amendment No. 114 on March 28, 2003 (68 FR 18291, April 15, 2003).

The Commission had previously issued a Notice of Consideration of Issuance of Amendment published in the Federal Register on October 15, 2002 (67 FR 63691). However, by letter dated August 28, 2003, the licensee withdrew the portion of the proposed change described above.

For further details with respect to this action, see the application for amendment dated August 28, 2002, and the licensee's letter dated August 28, 2003, which withdrew this portion of the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm/adams/html. Persons who do not have access to ADAMS or who encounter problems in accessing the documents located in ADAMS should contact the NRC PDR Reference staff by telephone at 1-800-397-4209 or 301-415-4737, or by email to pdr@nrc.gov.

Dated at Rockville, Maryland, this 11th day of September, 2003.
For the Nuclear Regulatory Commission.
Chandu P. Patel,
Project Manager, Section 2, Project Directorate II, Division of Licensing Project Management, Office of Nuclear Reactor Regulation.

[FR Doc. 03-23839 Filed 9-17-03; 8:45 am]

BILLING CODE 7590-01-U